DEPARTMENT OF THE INTERIOR

National Park Service

[N6320; NPS-WASO-NAGPRA-NPS0040508; PPWOCRADN0-PCU00RP14.R50000]

Notice of Intended Disposition: U.S. Department of the Interior, Bureau of Land Management, Arizona State Office, Tucson, AZ

AGENCY: National Park Service, Interior.

ACTION: Notice.

SUMMARY: In accordance with the Native American Graves Protection and Repatriation Act (NAGPRA), the U.S. Department of the Interior, Bureau of Land Management, Arizona State Office, Tucson Field Office (BLM Tucson Field Office) intends to carry out the disposition of human remains and unassociated funerary objects removed from Federal or Tribal lands to the lineal descendants, Indian Tribe, or Native Hawaiian organization with priority for disposition in this notice.

DATES: Disposition of the human remains and cultural items in this notice may occur on or after August 27, 2025. If no claim for disposition is received by July 28, 2026, the human remains and cultural items in this notice will become unclaimed human remains and cultural items.

ADDRESSES: Send written claims for disposition of the human remains and cultural items in this notice to Colleen J. Dingman, Field Manager, Bureau of Land Management, Tucson Field Office, 3201 E Universal Way, Tucson, AZ 85756, email cjdingman@blm.gov.

SUPPLEMENTARY INFORMATION: This notice is published as part of the National Park Service's administrative responsibilities under NAGPRA. The determinations in this notice are the sole responsibility of the BLM Tucson Field Office, and additional information on the human remains and cultural items in this notice, including the results of consultation, can be found in the related records. The National Park Service is not responsible for the identifications in this notice.

Abstract of Information Available

Based on the information available, human remains representing, at least, one individual has been reasonably identified. No associated funerary objects are present. The 31 unassociated funerary objects are 29 brownware pottery sherds and two basalt flakes. The discovery was reported to the field office on November 30, 2023. The discovery consisted of 27 cremated bone fragments of 4cm in length and less found within and next to a small erosional gully in a Hohokam-tradition archaeological site in Pinal County, Arizona.

Determinations

The BLM Tucson Field Office has determined that:

• The human remains described in this notice represent the physical remains of one individual of Native American ancestry.

• The 31 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The Gila River Indian Community of the Gila River Indian Reservation, Arizona has priority for disposition of the human remains and cultural item described in this notice.

Claims for Disposition

Written claims for disposition of the human remains and cultural items in this notice must be sent to the appropriate official identified in this notice under ADDRESSES. If no claim for disposition is received by July 28, 2026, the human remains and cultural items in this notice will become unclaimed human remains and cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and cultural items in this notice may occur on or after August 27, 2025. If competing claims for disposition are received, the BLM Tucson Field Office must determine the most appropriate claimant prior to disposition. Requests for joint disposition of the human remains and cultural items are considered a single request and not competing requests. The BLM Tucson Field Office is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: July 1, 2025.
Melanie O'Brien,
Manager, National NAGPRA Program.

[FR Doc. 2025-14167 Filed 7-25-25; 8:45 am]

BILLING CODE 4312-52-P